DEPARTMENT OF TRANSPORTATION

Federal Aviation Administration

14 CFR Part 73

[Docket No. FAA-2016-8927; Airspace Docket No. 15-ANM-24]

RIN 2120-AA66

Proposed Establishment of Restricted Area R-2603; Fort Carson, CO

AGENCY: Federal Aviation Administration (FAA), DOT.

ACTION: Notice of proposed rulemaking (NPRM).

SUMMARY: This action proposes to establish restricted area R-2603 within the existing Fort Carson, CO, Pinon Canyon Maneuver Site (PCMS), near Trinidad, CO. The U.S. Army requires additional restricted airspace because the restricted area ranges at Fort Carson are not large enough to meet all training requirements. The proposed R-2603 would provide increased ground-to-air, air-to-ground, and air-to-air battle space to increase training capacity and relieve training congestion at Fort Carson.

DATES: Comments must be received on or before October 28, 2016.

ADDRESSES: Send comments on this proposal to the U.S. Department of Transportation, Docket Operations, 1200 New Jersey Avenue SE., West Building Ground Floor, Room W12-140, Washington, DC 20590; telephone: 1 (800) 647-5527, or (202) 366-9826. You must identify FAA Docket No. FAA-2016-8927 and Airspace Docket No. 15-ANM-24, at the beginning of your comments. You may also submit comments through the Internet at http://www.regulations.gov. Comments on environmental and land use aspects should be directed to: Fort Carson NEPA Program Manager, Directorate of Public Works, Environmental Division, 1626 Evans Street, Building 12191, Fort Carson, CO 80913-4362. You may review the public docket containing the proposal, any comments received, and any final disposition in person in the Docket Office between 9:00 a.m. and 5:00 p.m., Monday through Friday, except Federal holidays. The Docket Office is on the ground floor of the building at the above address.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish a restricted area at Fort Carson, CO, to enhance aviation safety and accommodate essential Army training requirements.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-8927 and Airspace Docket No. 15-ANM-24) and be submitted in triplicate to the Docket Office at the address listed above. You may also submit comments through the Internet at www.regulations.gov.

Commenters wishing the FAA to acknowledge receipt of their comments on this action must submit with those comments a self-addressed, stamped postcard on which the following statement is made: “Comments to FAA Docket No. FAA-2016-8927 and Airspace Docket No. 15-ANM-24.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov.

You may review the public docket containing the proposal, any comments received and any final disposition in person at the Docket Office (see ADDRESSES section for address and phone number) between 9:00 a.m. and 5:00 p.m., Monday through Friday, except Federal holidays. An informal docket may also be examined during normal business hours at the office of the Operations Support Group, Western Service Center, Federal Aviation Administration, 1601 Lind Ave. SW., Renton, WA 98057.

Background

To conduct realistic and coordinated large-scale training that integrate ground and air resources, the U.S. Army must maintain large maneuver and training areas of varying characteristics and complex terrain. As the overseas deployment cycle slows, soldiers must now train more often at home station in order to sustain their combat skills. As a result, competition among units for training time and space at Fort Carson, CO, will sharply increase. Fort Carson provides training for up to ten Army Brigades per year. In addition, Fort Carson conducts training with Reserve, National Guard, joint services, foreign military services, special operations forces and other Federal agencies. The current training areas and ranges at Fort Carson do not have the capacity to accommodate all current and evolving large-scale, integrated training requirements. To address this training shortfall, the Army must take advantage of the larger space and greater training capacity available at the existing Pinon Canyon Maneuver Site (PCMS), near Trinidad, CO. The PCMS is a military training site for Fort Carson, CO. The proposed designation of restricted area R-2603, within the PCMS, would provide the increased space needed to conduct various activities including force-on-force maneuver training, lasers and hazardous ground-to-air, air-to-ground and air-to-air operations.

The Proposal

The FAA is proposing an amendment to 14 CFR part 73 to establish a new restricted area, designated R-2603, extending from the surface to but not including 10,000 feet MSL, within the existing Fort Carson PCMS. The proposed restricted area would contain various hazardous activities including, but not limited to: Electronic jamming; pyrotechnic activities; airborne and ground-based lasers; hazardous air-to-ground, ground-to-air and air-to-air activities involving fixed-wing and rotary-wing aircraft; and night-time lights-out flight maneuvers. Additionally, only “non-dud” producing munitions (40 millimeter and below) would be fired in the proposed restricted area.

R-2603 would be activated for specific times as announced by issuance of a Notice to Airmen (NOTAM). It is estimated that the area would be required to support approximately five training cycles per year with the longest duration of each cycle being approximately four to five weeks. The area would be activated only when needed to support operations that pose a hazard to aviation.

The U.S. Army requested this action to provide additional restricted airspace to resolve a training capacity shortfall at Fort Carson, CO.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited areas, restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.26 Colorado (Amended)

2. § 73.26 is amended as follows:

* * * * *

R-2603 Fort Carson, CO [New]

Boundaries. Beginning at lat. 37°22′30″ N., long. 104°04′47″ W.; to lat. 37°21′15″ N., long. 104°02′35″ W.; to lat. 37°21′10″ N., long. 103°54′41″ W.; to lat. 37°32′46″ N., long. 103°42′46″ W.; to lat. 37°38′33″ N., long. 103°35′11″ W.; to lat. 37°38′32″ N., long. 103°48′43″ W.; to lat. 37°38′10″ N., long. 103°48′47″ W.; to lat. 37°35′57″ N., long. 103°54′40″ W.; to lat. 37°35′59″ N., long. 103°57′50″ W.; to lat. 37°33′21″ N., long. 103°57′55″ W.; to lat. 37°32′27″ N., long. 104°02′15″ W.; to lat. 37°32′27″ N., long. 104°06′32″ W.; thence to the point of beginning.

Designated altitudes. Surface to but not including 10,000 feet MSL.

Time of designation. By NOTAM.

Controlling agency. FAA, Denver ARTCC.

Using agency. U.S. Army, Commander, Fort Carson, CO.

Issued in Washington, DC, on September 6, 2016.
Leslie M. Swann,
Acting Manager, Airspace Policy Group.

[FR Doc. 2016-21938 Filed 9-12-16; 8:45 am]

BILLING CODE 4910-13-P